DEPARTMENT OF TRANSPORTATION

Federal Aviation Administration

14 CFR Part 39

[Docket No. FAA-2006-25658; Directorate Identifier 2006-NM-054-AD; Amendment 39-15406; AD 2008-05-12]

RIN 2120-AA64

Airworthiness Directives; Airbus Model A318, A319, A320, and A321 Airplanes

AGENCY: Federal Aviation Administration (FAA), Department of Transportation (DOT).

ACTION: Final rule.

SUMMARY: The FAA is superseding an existing AD that applies to certain Airbus Model A318, A319, A320, and A321 airplanes. That AD currently requires repetitive detailed inspections of the inboard flap trunnions for any wear marks and of the sliding panels for any cracking at the long edges, and corrective actions if necessary. This new AD adds airplanes that were recently added to the type certificate data sheet and changes the inspection type. This AD results from reports of wear damage to the inboard flap trunnions after incorporation of the terminating modification. We are issuing this AD to detect and correct wear of the inboard flap trunnions, which could lead to loss of flap surface control and consequently result in the flap detaching from the airplane. A detached flap could result in damage to the tail of the airplane.

DATES: This AD becomes effective April 16, 2008.

The Director of the Federal Register approved the incorporation by reference of certain publications listed in the AD as of April 16, 2008.

On March 24, 2006 (71 FR 8439, February 17, 2006), the Director of the Federal Register approved the incorporation by reference of Airbus Service Bulletin A320-57-1133, excluding Appendix 01, dated July 28, 2005.

On January 8, 2001 (65 FR 75603, December 4, 2000), the Director of the Federal Register approved the incorporation by reference of certain other publications listed in the AD.

ADDRESSES: For service information identified in this AD, contact Airbus, 1 Rond Point Maurice Bellonte, 31707 Blagnac Cedex, France.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Discussion

The FAA issued a second supplemental notice of proposed rulemaking (NPRM) to amend 14 CFR part 39 to include an AD that supersedes AD 2006-04-06, amendment 39-14487 (71 FR 8439, February 17, 2006). The existing AD applies to certain Airbus Model A318, A319, A320, and A321 airplanes. That second supplemental NPRM was published in the Federal Register on August 16, 2007 (72 FR 45982). That second supplemental NPRM proposed to supersede an existing AD that currently requires repetitive detailed inspections of the inboard flap trunnions for any wear marks and of the sliding panels for any cracking at the long edges, and corrective actions if necessary. That second supplemental NPRM proposed to add airplanes that were recently added to the type certificate data sheet and change the inspection type.

Comments

We provided the public the opportunity to participate in the development of this AD. We have considered the comments received.

Request To Include Revised Service Information

Airbus asks that Airbus Service Bulletin A320-57-1133, Revision 03, dated July 3, 2007, be incorporated into the AD. (We referred to Revision 02, dated December 12, 2006, of that service bulletin as the appropriate source of service information for accomplishing certain actions specified in the second supplemental NPRM.)

We agree with Airbus and have changed the applicable paragraphs in this AD to refer to Revision 03 of Airbus Service Bulletin A320-57-1133 for accomplishing certain actions, as no additional work is required by this revision. We have also changed paragraph (k) of this AD to give credit to operators who have accomplished the actions in accordance with Airbus Service Bulletin A320-57-1133, Revision 02, dated December 12, 2006, before the effective date of this AD.

Request To Include Inspections Removed From Second Supplemental NPRM

Under the “Request to Remove Certain Requirements” section of the second supplemental NPRM, certain requirements were removed based on a previous recommendation from Airbus. Regarding that recommendation, Airbus notes that Model A321-211 and -231 airplanes that are pre-modification 26495, and on which Airbus Service Bulletin A320-27-1117, Revision 04, dated November 6, 2001, was not applied, should have dedicated procedures included in the AD. Airbus states that the inspections specified in Airbus Service Bulletin A320-27-1108, Revision 04, dated November 22, 1999, provide those procedures.

We agree with Airbus, although there are no U.S. operators of Model A321-211 and -231 airplanes that are specified in the effectivity that are pre-modification 26495. In the unlikely event that an operator has an airplane configuration that is pre-modification 26495, or on which Airbus Service Bulletin A320-27-1117 was applied, we have determined that the alternative inspections specified in Airbus Service Bulletin A320-27-1108, Revision 04, can be used, as the inspections provide an acceptable level of safety. We have added a new paragraph (p) to this AD to include the alternate inspections.

Conclusion

We have carefully reviewed the available data, including the comments received, and determined that air safety and the public interest require adopting the AD with the changes described previously. These changes will neither increase the economic burden on any operator nor increase the scope of the AD.

Costs of Compliance

The following table provides the estimated costs for U.S. operators to comply with this AD.

Estimated Costs
Action | Work hours | Average labor rate per hour | Parts | Cost per airplane | Number of U.S.- registered airplanes | Fleet cost
Modification in AD 2006-04-06 | 14 | $80 | The manufacturer states that it will supply required parts to operators at no cost | $1,120 | 768 | $860,160.
Detailed inspection in AD 2006-04-06 | 2 | 80 | None | $160, per inspection cycle | 768 | $122,880, per inspection cycle.
General visual inspection (new action) | 1 | 80 | None | $80, per inspection cycle | 754 | $60,320, per inspection cycle.

Currently, there are no affected Model A321-211 and -231 airplanes on the U.S. Register. However, if an affected airplane is imported and placed on the U.S. Register in the future, the required inspection would take about 1 work hour, at an average labor rate of $80 per work hour. Based on these figures, we estimate the cost of this AD to be $80 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14487 (71 FR 8439, February 17, 2006) and adding the following new airworthiness directive (AD):

2008-05-12 Airbus: Amendment 39-15406. Docket No. FAA-2006-25658; Directorate Identifier 2006-NM-054-AD.

Effective Date

(a) This AD becomes effective April 16, 2008.

Affected ADs

(b) This AD supersedes AD 2006-04-06.

Applicability

(c) This AD applies to the airplanes identified in paragraphs (c)(1) and (c)(2) of this AD, certificated in any category.

(1) Airbus Model A318-111, -112, -121, and -122 airplanes on which Airbus Modification 26495 has been incorporated in production.

(2) All Airbus Model A319-111, -112, -113, -114, -115, -131, -132, and -133 airplanes; Model A320-111 airplanes; Model A320-211, -212, -214, -231, -232, and -233 airplanes; and Model A321-111, -112, -131, -211, -212, -213, -231, and -232 airplanes.

Unsafe Condition

(d) This AD results from reports of wear damage to the inboard flap trunnions after incorporation of the terminating modification. We are issuing this AD to detect and correct wear of the inboard flap trunnions, which could lead to loss of flap surface control and consequently result in the flap detaching from the airplane. A detached flap could result in damage to the tail of the airplane.

Compliance

(e) You are responsible for having the actions required by this AD performed within the compliance times specified, unless the actions have already been done.

Restatement of Requirements of AD 2006-04-06

Modification

(f) For Model A319-111, -112, -113, -114, -115, -131, -132, and -133 airplanes; Model A320-111 airplanes; Model A320-211, -212, -214, -231, -232, and -233 airplanes; and Model A321-111, -112, and -131 airplanes; except those on which Airbus Modification 26495 has been accomplished in production: Within 18 months after January 8, 2001 (the effective date of AD 2000-24-02, amendment 39-12009), modify the sliding panel driving mechanism of the flap drive trunnions, in accordance with Airbus Service Bulletin A320-27-1117, Revision 02, dated January 18, 2000; or Revision 04, dated November 6, 2001. As of the effective date of this AD, only Revision 04 may be used.

Note 1: Accomplishment of the modification required by paragraph (f) of this AD before January 8, 2001, in accordance with Airbus Service Bulletin A320-27-1117, dated July 31, 1997; or Revision 01, dated June 25, 1999; is acceptable for compliance with that paragraph.

Detailed Inspections

(g) For Model A318-111 and -112 airplanes; Model A319-111, -112, -113, -114, -115, -131, -132, and -133 airplanes; Model A320-111 airplanes; Model A320-211, -212, -214, -231, -232, and -233 airplanes; and Model A321-111, -112, and -131 airplanes: At the latest of the applicable times specified in paragraphs (g)(1), (g)(2), and (g)(3) of this AD, do a detailed inspection of the inboard flap trunnions for any wear marks and of the sliding panels for any cracking at the long edges, and do any corrective actions, as applicable, by accomplishing all of the applicable actions specified in the Accomplishment Instructions of Airbus Service Bulletin A320-57-1133, dated July 28, 2005; Revision 01, dated August 7, 2006; or Revision 03, dated July 3, 2007, except as provided by paragraph (n) of this AD. As of the effective date of this AD, only Revision 03 may be used. Any corrective actions must be done at the compliance times specified in Figures 5 and 6, as applicable, of the service bulletin; except as provided by paragraphs (k), (l), and (m) of this AD. Repeat the inspection thereafter at intervals not to exceed 4,000 flight hours until the inspection required by paragraph (h) of this AD is done.

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(1) Before accumulating 4,000 total flight hours on the inboard flap trunnion since new.

(2) Within 4,000 flight hours after accomplishing paragraph (f) of this AD.

(3) Within 600 flight hours after March 24, 2006 (the effective date of AD 2006-04-06).

New Requirements of This AD

General Visual Inspections

(h) For all airplanes: At the time specified in paragraph (h)(1) or (h)(2) of this AD, as applicable, do a general visual inspection of the inboard flap trunnions for any wear marks and of the sliding panels for any cracking at the long edges, and do all applicable corrective actions by accomplishing all of the applicable actions specified in the Accomplishment Instructions of Airbus Service Bulletin A320-57-1133, Revision 03, dated July 3, 2007; except as provided by paragraphs (i) and (o) of this AD. All corrective actions must be done at the compliance times specified in Figures 5 and 6, as applicable, of the service bulletin; except as provided by paragraphs (l), (m), and (n) of this AD. Repeat the inspection thereafter at intervals not to exceed 4,000 flight hours. Accomplishing the general visual inspection required by this paragraph terminates the detailed inspection requirement of paragraph (g) of this AD.

Note 3: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

(1) For airplanes on which the detailed inspection required by paragraph (g) of this AD has been done before the effective date of this AD: Inspect before accumulating 4,000 total flight hours on the inboard flap trunnion since new, or within 4,000 flight hours after accomplishing the most recent inspection required by paragraph (g) of this AD, whichever occurs later.

(2) For airplanes other than those identified in paragraph (h)(1) of this AD: Inspect at the latest of the applicable times specified in paragraphs (h)(2)(i), (h)(2)(ii), and (h)(2)(iii) of this AD.

(i) Before accumulating 4,000 total flight hours on the inboard flap trunnion since new.

(ii) Within 4,000 flight hours after accomplishing paragraph (f) of this AD.

(iii) Within 600 flight hours after the effective date of this AD.

(i) Where Airbus Service Bulletin A320-57-1133, Revision 03, dated July 3, 2007, specifies to contact the manufacturer for instructions on how to repair certain conditions: Before further flight, repair using a method approved by the Manager, International Branch, ANM-116, Transport Airplane Directorate, FAA; or the European Aviation Safety Agency (EASA) (or its delegated agent), or the Direction Générale de l'Aviation Civile (DGAC) (or its delegated agent).

Actions Done Using Previous Issues of Service Information

(j) Accomplishing the modification required by paragraph (f) of this AD before the effective date of this AD, in accordance with Airbus Service Bulletin A320-27-1117, Revision 03, dated August 24, 2001, is acceptable for compliance with the requirements of that paragraph.

(k) Accomplishing the inspections and corrective actions required by paragraphs (g) and (h) of this AD before the effective date of this AD, in accordance with Airbus Service Bulletin A320-57-1133, dated July 28, 2005; Revision 01, dated August 7, 2006; or Revision 02, dated December 12, 2006; is acceptable for compliance with the requirements of that paragraph.

Compliance Times

(l) Where Airbus Service Bulletin A320-57-1133, Revision 03, dated July 3, 2007, specifies replacing the sliding panel at the next opportunity if damaged, replace it within 600 flight hours after the inspection required by paragraph (g) or (h) of this AD, as applicable.

(m) If any damage to the trunnion is found during any inspection required by paragraph (g) or (h) of this AD, before further flight, do the corrective actions specified in Airbus Service Bulletin A320-57-1133, Revision 03, dated July 3, 2007.

Grace Period Assessment

(n) Where Airbus Service Bulletin A320-57-1133, Revision 03, dated July 3, 2007, specifies contacting the manufacturer for a grace period assessment after replacing the trunnion or flap, contact the Manager, International Branch, ANM-116; or the Direction Générale de l'Aviation Civile (or its delegated agent) for the grace period assessment.

No Reporting Requirement

(o) Although Airbus Service Bulletin A320-57-1133, Revision 03, dated July 3, 2007, specifies to submit certain information to the manufacturer, this AD does not include that requirement.

Alternate Inspections

(p) For Model A321-211 and -231 airplanes that have not been modified in accordance with Airbus Modification 26495, or on which the actions specified in Airbus Service Bulletin A320-27-1117, Revision 04, dated November 6, 2001, have not been done as of the effective date of this AD: Do the inspections specified in Airbus Service Bulletin A320-27-1108, Revision 04, dated November 22, 1999; at the applicable time specified in paragraph 1.E., “Compliance” of the service bulletin; except, where the service bulletin specifies a compliance time after the date of French airworthiness directive 96-271-092(B), this AD requires compliance within the specified compliance time after the effective date of this AD. Do all applicable corrective actions before further flight. Do the actions in accordance with the Accomplishment Instructions of the service bulletin.

Alternative Methods of Compliance (AMOCs)

(q)(1) The Manager, International Branch, ANM-116, has the authority to approve AMOCs for this AD, if requested in accordance with the procedures found in 14 CFR 39.19.

(2) AMOCs approved previously in accordance with AD 2006-04-06, amendment 39-14487, are approved as AMOCs for the corresponding provisions of this AD.

(3) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(r) French airworthiness directive F-2005-139, dated August 3, 2005, also addresses the subject of this AD.

Material Incorporated by Reference

(s) You must use the service information contained in Table 1 of this AD to do the actions required by this AD, unless the AD specifies otherwise.

Table 1.—All Material Incorporated by Reference
Airbus Service Bulletin No. | Revision | Date
A320-27-1117 | 02 | January 18, 2000.
A320-27-1117 | 04 | November 6, 2001.
A320-57-1133, excluding Appendix 01 | Original | July 28, 2005.
A320-57-1133 | 01 | August 7, 2006.
A320-57-1133, excluding Appendix 01 | 03 | July 3, 2007.

(1) The Director of the Federal Register approved the incorporation by reference of the service information contained in Table 2 of this AD in accordance with 5 U.S.C. 552(a) and 1 CFR part 51.

Table 2.—New Material Incorporated by Reference
Airbus Service Bulletin No. | Revision | Date
A320-27-1117 | 04 | November 6, 2001.
A320-57-1133 | 01 | August 7, 2006.
A320-57-1133, excluding Appendix 01 | 03 | July 3, 2007.

(2) On March 24, 2006 (71 FR 8439, February 17, 2006), the Director of the Federal Register approved the incorporation by reference of Airbus Service Bulletin A320-57-1133, excluding Appendix 01, dated July 28, 2005.

(3) On January 8, 2001 (65 FR 75603, December 4, 2000), the Director of the Federal Register approved the incorporation by reference of Airbus Service Bulletin A320-27-1117, Revision 02, dated January 18, 2000.

(4) Contact Airbus, 1 Rond Point Maurice Bellonte, 31707 Blagnac Cedex, France, for a copy of this service information. You may review copies at the FAA, Transport Airplane Directorate, 1601 Lind Avenue, SW., Renton, Washington 98057-3356; or at the National Archives and Records Administration (NARA). For information on the availability of this material at NARA, call 202-741-6030, or go to: http://www.archives.gov/federal-register/cfr/ibr-locations.html.

Issued in Renton, Washington, on February 25, 2008.
Ali Bahrami,
Manager, Transport Airplane Directorate, Aircraft Certification Service.

[FR Doc. E8-3989 Filed 3-11-08; 8:45 am]

BILLING CODE 4910-13-P